DEPARTMENT OF HOUSING AND URBAN DEVELOPMENT

[Docket No. FR-5200-FA-13]

Announcement of Funding Awards for Fiscal Year 2008; Alaska Native/Native Hawaiian Institutions Assisting Communities Program

AGENCY: Office of the Assistant Secretary for Policy Development and Research, HUD.

ACTION: Announcement of funding awards.

SUMMARY: In accordance with section 102(a)(4)(C) of the Department of Housing and Urban Development Reform Act of 1989, this document notifies the public of funding awards for Fiscal Year (FY) 2008 Alaska Native/Native Hawaiian Institutions Assisting Communities (AN/NHIAC) Program. The purpose of this document is to announce the names, addresses and the amount awarded to the winners to be used to assist Alaska Native/Native Hawaiian institutions of higher education to expand their role and effectiveness in addressing communities in their localities, including neighborhood revitalization, housing and economic development, principally for low- and moderate-income, consistent with the purpose of Title I of the Housing and Community Development Act of 1974, as amended.

FOR FURTHER INFORMATION CONTACT: Susan Brunson, Office of University Partnerships, U.S. Department of Housing and Urban Development, Room 8106, 451 Seventh Street, SW., Washington, DC 20410, Telephone (202) 402-3852. To provide service for persons who are hearing- or- speech-impaired, this number may be reached via TTY by Dialing the Federal Information Relay Service at 800-877-8339 or 202-708-1455. (Telephone number, other than “800” TTY numbers are not toll free).

SUPPLEMENTARY INFORMATION: The Alaska Native/Native Hawaiian Institutions Assisting Communities Program was approved by Congress under the Consolidated Appropriations Act, 2008 (Pub. L. 110-161) and is administered by the Office of University Partnerships under the Office of the Assistant Secretary for Policy Development and Research. In addition to this program, the Office of University Partnerships administers HUD's ongoing grant programs to institutions of higher education as well as creates initiatives through which colleges and universities can bring their traditional missions of teaching, research, service, and outreach to bear on the pressing local problems in their communities.

The AN/NHIAC program provides funds for a wide range of CDBG-eligible activities including housing rehabilitation and financing, property demolition or acquisition, public facilities, economic development, business entrepreneurship, and fair housing programs.

The Catalog of Federal Domestic Assistance number for this program is 14.515.

On May 12, 2008 (FR Vol. 73, No. 92), HUD published a Notice of Funding Availability (NOFA) announcing the availability of $3 million appropriated in FY 08. Each eligible campus was permitted to apply individually for $800,000, the maximum amount that can be awarded for a period of 36 months.

The Department reviewed, evaluated, and scored the applications received based on the criteria in the NOFA. As a result, HUD has funded the applications below, in accordance with section 102(a)(4)(C) of the Department of Housing and Urban Development Reform Act of 1989 (103 Stat. 1987, 42 U.S.C. 3545). More information about the winners can be found at http://www.oup.org, the Department is publishing the names, addresses, and amounts of those awards as shown in Appendix A.

Dated: October 14, 2008.
Darlene F. Williams,
Assistant Secretary for Policy Development and Research.

Appendix A—Fiscal Year 2008 Funding Awards for Alaska Native/Native Hawaiian Institutions Assisting Communities Grant Program
Recipient | City/State/Zip Code | Award
University of Alaska, Fairbanks/Interior Aleutians, Clara Johnson, P.O. Box 757880 | Fairbanks, AK 99775-7880 | $799,965
University of Hawaii-Kauai Community College, Charles Ramsey, 2530 Dole Street, Sakamaki D 200 | Honolulu, HI 96822 | 794,728
University of Hawaii, Wendell Perry, 2530 Dole Street, Sakamaki D 200 | Honolulu, HI 96822 | 799,907
University of Hawaii/Hawaii Community College, Douglas Dykstra, 2530 Dole Street, Sakamaki D 200 | Honolulu, HI 96822 | 605,400

[FR Doc. E8-25065 Filed 10-21-08; 8:45 am]

BILLING CODE 4210-67-P